DEPARTMENT OF TRANSPORTATION

Surface Transportation Board

[STB Finance Docket No. 34392]

New Jersey Rail Carrier LLC—Acquisition and Operation Exemption—Former Columbia Terminals, Kearny, NJ

New Jersey Rail Carrier LLC (NJ Rail), a noncarrier, has filed a verified notice of exemption under 49 CFR 1150.31 to acquire by lease, pursuant to an agreement with Amcol Realty Co., Inc. (ARC), and to operate approximately 2,250 feet of railroad track formerly known as the Columbia Terminals, beginning at a switch from a line of Consolidated Rail Corporation located along Meadows Track 1 ZTS Zone 17, near Line Code 0204, milepost 4.2, and extending over various lengths of four tracks to their stub ends, in the Town of Kearny, Hudson County, NJ.

NJ Rail certifies that its projected revenues will not exceed those that would qualify it as a Class III rail carrier, and that its projected annual revenues will not exceed $5 million.

The transaction was due to be consummated on August 14, 2003, the effective date of the exemption (7 days after the exemption was filed). By decision served on August 13, 2003, however, the Board stayed the effective date of the exemption to obtain additional, more specific information on the operations that NJ Rail proposes to conduct. By decision served on January 20, 2004, the Board lifted the stay and allowed the exemption to take effect on the effective date of that decision. The Board is hereby giving notice of the exemption.

If the notice contains false or misleading information, the exemption is void ab initio. Petitions to revoke the exemption under 49 U.S.C. 10502(d) may be filed at any time. The filing of a petition to revoke will not automatically stay the transaction.

An original and 10 copies of all pleadings, referring to STB Finance Docket No. 34392, must be filed with the Surface Transportation Board, 1925 K Street NW., Washington, DC 20423-0001. In addition, one copy of each pleading must be served on Fritz R. Kahn, P.C., 1920 N Street, NW., 8th Floor, Washington, DC 20036-1601.

Board decisions and notices are available on our Web site at www.stb.dot.gov.

Decided: January 21, 2004.
By the Board, David M. Konschnik, Director, Office of Proceedings.
Vernon A. Williams,
Secretary.

[FR Doc. 04-1675 Filed 1-27-04; 8:45 am]

BILLING CODE 4915-00-P